DEPARTMENT OF THE INTERIOR

Bureau of Land Management

[MT-066-1220-AL]

Notice of Relocation/Change of Address/Office Closure; Montana

AGENCY: Bureau of Land Management; Interior.

ACTION: Notice.

EFFECTIVE DATE: September 15, 2006.

FOR FURTHER INFORMATION CONTACT: June Bailey, Lewistown Field Manager, 406/538-1900, BLM Lewistown Field Office, 920 NE Main Street, Lewistown, Montana 59457.

SUPPLEMENTARY INFORMATION: On September 15, 2006, the Bureau of Land Management's Fort Benton River Management Station, the Fort Benton Visitor Contact Station and the Fort Benton Law Enforcement Ranger will move/relocate their offices to the Upper Missouri River Breaks National Monument Interpretive Center, at 701 7th Street in Fort Benton, Montana 59442. The following business practices will be in effect beginning September 15, 2006.

(A) The old river management station/office and visitor contact station will close on Friday, September 15, 2006. There will be no over-the-counter transactions or phone business that day. Emergency calls may be directed to the Lewistown Field Office at 406/538-1900.

(B) The physical and shipping/mailing addresses for the Fort Benton River Management Station will change. Effective September 18, 2006, all shipments and mail should be sent to: Fort Benton River Management Station, P.O. Box 1389, Fort Benton, Montana 59442. The physical address for the Fort Benton River Management Station office facilities will be 701 7th Street, Fort Benton, Montana, 59442.

(C) The main office telephone number for the Fort Benton River Management Station will remain the same: 406/622-4000.

(D) The BLM's Fort Benton River Management Station will resume full services on Monday, September 18, 2006, at 701 7th Street in Fort Benton, MT 59442. The office hours at the River Management Station will remain the same: 8 a.m. through 5 p.m.; Monday through Friday, except on Federally designated holidays.

Dated: August 21, 2006.
Michael P. Stewart,
Associate Lewistown Field Manager.

[FR Doc. E6-14666 Filed 9-1-06; 8:45 am]

BILLING CODE 4310-$$-P